DEPARTMENT OF COMMERCE

Foreign-Trade Zones Board

[Docket 40-2000]

Foreign-Trade Zone 219—Yuma, AZ; Application for Expansion

An application has been submitted to the Foreign-Trade Zones Board (the Board) by the Yuma County Airport Authority, Inc., grantee of FTZ 219, requesting authority to expand its general-purpose zone site to include an additional parcel at the Yuma International Airport. The application was submitted pursuant to the provisions of the Foreign-Trade Zones Act, as amended (19 U.S.C. 81a-81u), and the regulations of the Board (15 CFR part 400). It was formally filed on July 20, 2000.

FTZ 219 was approved by the Board on April 2, 1997 (Board Order 874, 62 FR 17850, 4/10/97). The zone currently consists of 79 acres within the Yuma International Airport Complex, owned by Yuma County and leased to the Yuma County Airport Authority, Inc.

The applicant is now requesting authority to expand the existing zone site to include an additional parcel (46 acres) adjacent to the existing site at the Yuma International Airport located at 2191 East 32nd Street, Yuma County, Arizona. The parcel is owned by the Yuma County Airport Authority, Inc. No specific manufacturing requests are being made at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is October 2, 2000. Rebuttal comments in response to material submitted during the foregoing period may be submitted during the subsequent 15-day period (to October 16, 2000).

A copy of the application and accompanying exhibits will be available for public inspection at each of the following locations:

Yuma Main Library, 350 South 3rd Avenue, Yuma, AZ 85364

Office of the Executive Secretary, Foreign-Trade Zones Board, U.S. Department of Commerce, 14th & Pennsylvania Avenue, NW, Washington DC 20230

Dated: July 21, 2000.
Dennis Puccinelli,
Executive Secretary.

[FR Doc. 00-19556 Filed 8-1-00; 8:45 am]

BILLING CODE 3510-DS-P